DEPARTMENT OF ENERGY

Federal Energy Regulatory Commission

[Docket No. IN06-3-003]

Energy Transfer Partners, L.P.; Energy Transfer Company; ETC Marketing Ltd.; Houston Pipeline Company; Oasis Pipeline, L.P.; Oasis Pipeline Company Texas, L.P.; ETC Texas Pipeline Ltd., Oasis Division; Notice of Designation of Commission Staff as Non-Decisional

December 20, 2007.

Pursuant to an order issued by the Commission today in the above-captioned docket, with the exceptions noted below, the staff of the Office of Enforcement is designated as non-decisional in deliberations by the Commission in this docket. Accordingly, they will not serve as advisors to the Commission or take part in the Commission's review of any offer of settlement. Likewise, as non-decisional staff, they are prohibited from communicating with advisory staff concerning any deliberations in this docket. Exceptions to this designation are the Director of the Office of Enforcement and the Directors of the Divisions of Investigations, Energy Market Oversight, Audits, and Financial Regulation in the Office of Enforcement.

Kimberly D. Bose,
Secretary.

[FR Doc. E7-25321 Filed 12-28-07; 8:45 am]

BILLING CODE 6717-01-P